DEPARTMENT OF HOMELAND SECURITY

Coast Guard

33 CFR Part 165

[Docket Number USCG-2018-0578]

RIN 1625-AA00

Safety Zone; Alaska Marine Highway System Port Valdez Ferry Terminal, Port Valdez; Valdez, AK; Correction

AGENCY: Coast Guard, DHS.

ACTION: Final rule; correction.

SUMMARY: The Coast Guard is correcting a final rule that appeared in the Federal Register on July 12, 2018. The Coast Guard issued a final rule republishing its 2014 rule that established a permanent safety zone on the navigable waters of Port Valdez within a 200-yard radius of the Alaska Marine Highway System (AMHS) Port Valdez Ferry Terminal.

DATES: Effective July 19, 2018.

ADDRESSES: To view documents mentioned in this preamble as being available in the docket, go to http://www.regulations.gov, type USCG-2018-0578 in the “SEARCH” box and click “SEARCH.” Click on Open Docket Folder on the line associated with this rule.

FOR FURTHER INFORMATION CONTACT: If you have questions about this rulemaking, call or email LTJG, Carlos M. Quintero, MSU Valdez, U.S. Coast Guard; telephone 907-835-7209, email Carlos.M.Quintero@uscg.mil.

SUPPLEMENTARY INFORMATION: In FR 2018-14863 appearing on page 32208 in the Federal Register of Thursday, July 12, 2018, the following correction is made:

§ 165.1712a [Corrected]

1. On page 32209, in the second column, in part 165, in amendment 2, the section heading “§ 165.1712a Safety Zone; Alaska Marine Highway System Port Valdez Ferry Terminal, Port Valdez, Valdez, AK.” is corrected to read “§ 165.1714 Safety Zone; Alaska Marine Highway System Port Valdez Ferry Terminal, Port Valdez, Valdez, AK.”.

Date: July 16, 2018.
Katia Kroutil,
Chief, Office of Regulations and Administrative Law.

[FR Doc. 2018-15438 Filed 7-18-18; 8:45 am]

BILLING CODE 9110-04-P